DEPARTMENT OF TRANSPORTATION

Federal Aviation Administration

14 CFR Part 39

[Docket No. FAA-2007-28068; Directorate Identifier 2007-CE-043-AD]

RIN 2120-AA64

Airworthiness Directives; Hawker Beechcraft Corporation (Type Certificate No. A00010WI previously held by Raytheon Aircraft Company) Model 390 Airplanes

AGENCY: Federal Aviation Administration (FAA), Department of Transportation (DOT).

ACTION: Notice of proposed rulemaking (NPRM).

SUMMARY: We propose to adopt a new airworthiness directive (AD) for certain Hawker Beechcraft Corporation Model 390 Airplanes. This proposed AD would require you to inspect the starter-generator to determine the serial number (S/N) and suffix letter, which indicates if the part is defective, and replace any defective starter-generator with one of new design. This proposed AD results from reports of a manufacturing error where certain starter-generators may have been improperly shimmed. We are proposing this AD to detect and replace defective starter-generators, which could result in premature starter-generator failure. This failure could lead to increased chances of dual starter-generator failure on the same flight.

DATES: We must receive comments on this proposed AD by August 13, 2007.

ADDRESSES: Use one of the following addresses to comment on this proposed AD:

• DOT Docket Web site: Go to http://dms.dot.gov and follow the instructions for sending your comments electronically.

• Mail: Docket Management Facility; U.S. Department of Transportation, 400 Seventh Street, SW., Nassif Building, Room PL-401, Washington, DC 20590-0001.

• Fax: (202) 493-2251.

• Hand Delivery: Room PL-401 on the plaza level of the Nassif Building, 400 Seventh Street, SW., Washington, DC, between 9 a.m. and 5 p.m., Monday through Friday, except Federal holidays.

• Federal eRulemaking Portal: Go to http://www.regulations.gov. Follow the instructions for submitting comments.

For service information identified in this proposed AD, contact Hawker Beechcraft Company, P.O. Box 85, Wichita, Kansas 67201-0085; telephone: (800) 429-5372 or (316) 676-3140.

FOR FURTHER INFORMATION CONTACT: Philip Petty, Aerospace Engineer, Wichita Aircraft Certification Office, FAA, 1801 Airport Road, Room 100, Wichita, Kansas 67209; telephone: (316) 946-4139; fax: (316) 946-4107; e-mail: philip.petty@faa.gov.

SUPPLEMENTARY INFORMATION:

Comments Invited

We invite you to send any written relevant data, views, or arguments regarding this proposed AD. Send your comments to an address listed under the ADDRESSES section. Include the docket number, “FAA-2007-28068; Directorate Identifier 2007-CE-043-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact we receive concerning this proposed AD.

Discussion

We received reports of premature starter-generator failure on several Hawker Beechcraft Corporation Model 390 airplanes. We determined the cause of the premature failure to be a result of a manufacturing error in which certain starter-generators, Raytheon Aircraft Company (RAC) part number (P/N) 390-389001-0001 and Advance Industries, Inc. (AI) P/N MG94A-1 without an “A” suffix letter, may have been improperly shimmed.

This condition, if not corrected, could result in premature starter-generator failure. This failure could lead to increased chances of dual starter-generator failure on the same flight.

Relevant Service Information

We have reviewed RAC Mandatory Service Bulletin SB 24-3790, Issued: August, 2006.

The service information describes procedures for:

• Inspecting the left-hand and right-hand starter-generators to determine the serial number and suffix letter, which indicates whether the part is defective; and

• Replacing any defective starter-generator found with one of new design.

FAA's Determination and Requirements of the Proposed AD

We are proposing this AD because we evaluated all information and determined the unsafe condition described previously is likely to exist or develop on other products of the same type design. This proposed AD would require you to inspect the starter-generator to determine the serial number (S/N) and suffix letter, which indicates whether the part is defective, and replace any defective starter-generator with one of new design.

Costs of Compliance

We estimate that this proposed AD would affect 105 airplanes in the U.S. registry.

We estimate the following costs to do the proposed inspection:

Labor cost | Parts cost | Total cost per airplane | Total cost on U.S. operators
1 work-hour × $80 per hour = $80 | Not applicable | $80 | $8,400

We estimate the following costs to do any necessary replacements that would be required based on the results of the proposed inspection. We have no way of determining the number of airplanes that may need this replacement:

Labor cost | Parts cost | Total cost per generator
5 work-hours × $80 per hour = $400 | $9,648 for new part | $10,048 for new part.
| $6,593 for overhauled part | $6,993 for overhauled part.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

Examining the AD Docket

You may examine the AD docket that contains the proposed AD, the regulatory evaluation, any comments received, and other information on the Internet at http://dms.dot.gov; or in person at the Docket Management Facility between 9 a.m. and 5 p.m., Monday through Friday, except Federal holidays. The Docket Office (telephone (800) 647-5227) is located at the street address stated in the ADDRESSES section. Comments will be available in the AD docket shortly after receipt.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Hawker Beechcraft Corporation (Type Certificate No. A00010WI previously held by Raytheon Aircraft Company): Docket No. FAA-2007-28068; Directorate Identifier 2007-CE-043-AD.

Comments Due Date

(a) We must receive comments on this airworthiness directive (AD) action by August 13, 2007.

Affected ADs

(b) None.

Applicability

(c) This AD applies to Model 390 airplanes, serial numbers RB-1 and RB-4 through RB-149, that are certificated in any category.

Unsafe Condition

(d) This AD results from reports of a manufacturing error where certain starter-generators may have been improperly shimmed. We are issuing this AD to detect and replace defective starter-generators, which could result in premature starter-generator failure. This failure could lead to increased chances of dual starter-generator failure on the same flight.

Compliance

(e) To address this problem, you must do the following, unless already done:

Actions | Compliance | Procedures
(1) Do a one-time inspection of the left-hand and right-hand starter-generators, Raytheon Aircraft Company (RAC) part number (P/N) 390-389001-0001 or Advance Industries, Inc. (AI) P/N MG94A-1, to determine the serial number and suffix letter, which indicates whether the part is defective | Within the next 50 hours time-in-service (TIS) after the effective date of this AD or within the next 3 months after the effective date of this AD, whichever occurs first | Follow RAC Mandatory Service Bulletin SB 24-3790, Issued: August, 2006.
(2) If any defective starter-generator(s) is/are found during the inspection required in paragraph (e)(1) of this AD, replace any defective starter-generator with one of new design | As follows: (i) If both starter-generators are found defective, replace at least one within 10 hours after the inspection required in paragraph (e)(1) of this AD. Replace the other within the next 200 hours TIS after the effective date of this AD or within the next 12 months after the effective date of this AD, whichever occurs first. (ii) If one starter-generator is found defective, replace within the next 200 hours TIS after the effective date of this AD or within the next 12 months after the effective date of this AD, whichever occurs first. | Follow RAC Mandatory Service Bulletin SB 24-3790, Issued: August, 2006.
(3) If a defective starter-generator is not found during the inspection required in paragraph (e)(1) of this AD, no further action is required | Not applicable | Follow RAC Mandatory Service Bulletin SB 24-3790, Issued: August, 2006.
(4) Do not install on any airplane any RAC P/N 390-389001-0001 or AI P/N MG94A-1, unless it is inspected following paragraph (e)(1) of this AD and found not to be defective | Before further flight after the inspection required in paragraph (e)(1) of this AD | Follow RAC Mandatory Service Bulletin SB 24-3790, Issued: August, 2006.

Alternative Methods of Compliance (AMOCs)

(f) The Manager, Wichita Aircraft Certification Office (ACO), FAA, has the authority to approve AMOCs for this AD, if requested using the procedures found in 14 CFR 39.19. Send information to ATTN: Philip Petty, Aerospace Engineer, Wichita ACO, FAA, 1801 Airport Road, Room 100, Wichita, Kansas 67209; telephone: (316) 946-4139; fax: (316) 946-4107; e-mail: philip.petty@faa.gov. Before using any approved AMOC on any airplane to which the AMOC applies, notify your appropriate principal inspector (PI) in the FAA Flight Standards District Office (FSDO), or lacking a PI, your local FSDO.

Related Information

(g) To get copies of the service information referenced in this AD, contact Hawker Beechcraft Company, P.O. Box 85, Wichita, Kansas 67201-0085; telephone: (800) 429-5372 or (316) 676-3140. To view the AD docket, go to the Docket Management Facility; U.S. Department of Transportation, 400 Seventh Street, SW., Nassif Building, Room PL-401, Washington, DC, or on the Internet at http://dms.dot.gov. The docket number is Docket No. FAA-2007-28068; Directorate Identifier 2007-CE-043-AD.

Issued in Kansas City, Missouri, on June 5, 2007.
David R. Showers,
Acting Manager, Small Airplane Directorate, Aircraft Certification Service.

[FR Doc. E7-11244 Filed 6-11-07; 8:45 am]

BILLING CODE 4910-13-P